DEPARTMENT OF TRANSPORTATION

Federal Railroad Administration

[Docket Number FRA-2025-0048]

Notice of Petition for Waiver of Compliance

AGENCY: Federal Railroad Administration (FRA), Department of Transportation (DOT).

ACTION: Notice.

SUMMARY: This document provides the public notice that Canadian Pacific Kansas City Limited (CPKC) and Union Pacific Railroad (UP) petitioned FRA for relief from certain regulations concerning air brake testing.

DATES: FRA must receive comments on the petition by August 4, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Steven Zuiderveen, Railroad Safety Specialist, FRA Motive Power & Equipment Division, telephone: 202-493-6337, email: steven.zuiderveen@dot.gov.

SUPPLEMENTARY INFORMATION: Under part 211 of title 49 Code of Federal Regulations (CFR), this document provides the public notice that by letter dated March 21, 2025, CPKC and UP (the Railroads) petitioned FRA for a waiver of compliance from certain provisions of the Federal railroad safety regulations contained at 49 CFR part 232 (Brake System Safety Standards for Freight and Other Non-Passenger Trains and Equipment; End-of-Train Devices). The Railroads also request an exemption from the requirements of title 49, United States Code (U.S.C.), section 20303, which states that a rail vehicle with defective or insecure equipment may be moved when necessary to make repairs to the nearest available place at which the repairs can be made. FRA assigned the petition Docket Number FRA-2025-0048.¹

¹ CPKC and UP formerly requested similar relief in Docket Number FRA-2022-0018.

Specifically, the Railroads seek relief from §§ 232.5, Definitions; 232.205(a), Class I brake test—initial terminal inspection; and 232.213(a)(2), Extended haul trains. The Railroads also seek an exemption from the requirements of 49 U.S.C. 20303, for a potash unit train pair (CPKC train symbols 618 and 619), which are designated as extended haul trains, that operate between loading facilities in Saskatchewan and Manitoba, Canada, and the ports of Portland, Oregon, United States. The requested relief would allow “technology-based advanced air brake testing [(the Brake Effectiveness Test (BET) Process)] performed by wayside wheel temperature detectors” as an alternative approach to manual Class I brake tests performed by Certified Car Inspectors (Qualified Mechanical Inspectors or qualified persons). The tests would take place at the designated inspection location in Lethbridge, Alberta, Canada, and trains may only depart the terminal with 100% operative brakes based on a combination of the BET Process and Class 1 brake tests. The Railroads further state that incorporating the BET Process will have no impact on or result in changes to the work and operations in the United States.

The Railroads also explain that on December 10, 2021, Transport Canada granted two exemptions to Canadian Pacific Railway under the Canadian Railway Safety Act that permit the use of the BET Process as an alternative practice to meet certain freight car safety and air brake inspections performed in Canada as required by Canadian rules. The BET Process is “being used as an alternative to the manual Class I air brake test to inspect 99% of bulk commodity trains operating under [Transport Canada] exemptions to Vancouver, Canada. The Railroads add that the BET Process has resulted in benefits over a manual brake test, including better identification of conditions warranting action and more effective braking, which reduces brake application when descending mountain grades in cold weather.

Pursuant to 49 U.S.C. 20306, FRA may grant an exemption from the requirements of 49 U.S.C. 20303 only on the basis of (1) evidence developed at a hearing; or (2) an agreement between national railroad labor representatives and the developer of the equipment or technology at issue. FRA notes that the public hearing FRA previously held to address a similar request for exemption from UP (Docket Number FRA-2016-0018) addresses substantially the same issues as this current request. Thus, FRA believes a separate public hearing on the current request is unnecessary, and in considering the Railroads' request in this docket, FRA intends to rely on the findings of the hearing conducted in Docket Number FRA-2016-0018.

A copy of the petition, as well as any written communications concerning the petition, is available for review online at www.regulations.gov.

Interested parties are invited to participate in these proceedings by submitting written views, data, or comments.

Communications received by August 4, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-12483 Filed 7-2-25; 8:45 am]

BILLING CODE 4910-06-P